DEPARTMENT OF JUSTICE

Drug Enforcement Administration

Manufacturer of Controlled Substances; Notice of Application

Pursuant to § 1301.33(a) of Title 21 of the Code of Federal Regulations (CFR), this is notice that on March 16, 2000, Lonza Riverside, 900 River Road, Conshohocken, Pennsylvania 19428, made application by letter to the Drug Enforcement Administration (DEA) for registration as a bulk manufacturer of gamma hydroxybutyric acid (2010), a basic class of controlled substance listed in Schedule I.

The firm plans to bulk manufacture gamma hydroxybutyric acid for distribution to its customers.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than June 27, 2000.

Dated: April 21, 2000.
John H. King,
Deputy Assistant Administrator Office of Diversion Control, Drug Enforcement Administration.

[FR Doc. 00-10668 Filed 4-27-00; 8:45 am]

BILLING CODE 4410-09-M